DEPARTMENT OF AGRICULTURE

Access Designation for the Ocala National Forest, Lake, and Marion Counties, FL

AGENCY: USDA Forest Service.

ACTION: Revised Notice of Intent to prepare a Draft Environmental Impact Statement for access management on the Ocala National Forest.

SUMMARY: The USDA Forest Service intends to prepare a Draft Environmental Impact Statement for designating a system of roads and trails within portions of the Ocala National Forest in Florida.

DATES: Comments were solicited during public meetings held between 1999 and 2002. A draft environmental impact statement is expected to be completed in June 2004. The final environmental impact statement is scheduled to be completed in December 2004.

ADDRESSES: You may request to be placed on the project mailing list and submit comments by contacting: Marsha Kearney, Forest Supervisor, USDA Forest Service, 325 John Knox Rd., Tallahassee, Florida 32303.

FOR FURTHER INFORMATION CONTACT: Will Ebaugh, Project Team Leader, (850) 523-8557.

Responsible Officials: Jerri Marr, District Ranger, Lake George Ranger District, 17147 Highway 40, Silver Springs, Florida 34488; Jim Thorsen, District Ranger, Seminole Ranger District, 40929 State Road 19, Umatilla, Florida 32784.

SUPPLEMENTARY INFORMATION: This is a revised Notice of Intent for the prior notice promulgated on May 8, 2002, in the Federal Register (Volume 67, number 89, page 30865). It is being revised due to the following reasons:

(1) The expected publication dates have been delayed by two years. The original schedule included a DEIS release in August 2002 and FEIS in November 2002. The revised dates include a DEIS release in June 2004 and FEIS in December 2004.

(2) The proposed action as described in the 2002 NOI was to include all three National Forests in Florida. The revised project is to be completed only for the Ocala National Forest. The remaining National Forests in Florida will be analyzed under separate EIS's.

(3) The responsible official has changed. Jerri Marr (District Ranger on the Lake George Ranger District and Jim Thorsen (District Ranger on the Seminole Ranger District will be the responsible officials.

Prior to 1999, vehicles could travel off roads (cross-country) on the National Forests in Florida except in areas specifically posted closed. The policy of allowing cross-country access contributed to a proliferation of travelways in portions of the Forests. As a result of this situation, vehicle access was addressed in the revision of Land and Resource Management Plan for the National Forests in Florida (Forest Plan).

Upon approval in 1999, the Forest Plan changed access for motorized vehicles in two ways: “cross-country” travel on land with no existing roads or trails is prohibited anywhere in the forests; and restricted areas were established where travel will be limited to designated roads and trails. The Forest Plan provided that a system of roads and trails would be designated in the restricted areas in cooperation with the public and user groups.

In January 2000 a series of public meetings was held near each National Forest in Florida. At these meetings, attendees selected a variety of stakeholder representatives to provide information on access preferences and needs. The group developed a proposed system for consideration by the Forest Service along with a set of guiding principles and designation criteria. This proposed action included approximately 1,300 motorized access opportunities. The Forest Service began an environmental assessment of this proposed action in 2001. During the assessment, it became evident that an accurate inventory of roads, trails and travelways was needed in the restricted areas. An inventory using the global positioning system (GPS) began in August 2001 and was completed in April 2002. It also became evident that the proposed action may have a significant effect on the human environment leading to preparation of an environmental impact statement.

Alternatives to the proposed action developed by the public work groups are currently being developed and analyzed.

The scoping process, as outlined by the Council on Environmental Quality (CEQ), was utilized to involve Federal, State, and local agencies and other interested persons and organizations. Environmental considerations include potential presence of historical or archaeological resources, aesthetics, recreation demand, wetlands, endangered and threatened species, and fish and wildlife habitats and values.

Release and Review of the EIS: The DEIS is expected to be filed with the Environmental Protection Agency (EPA) and to be available for public comment by June 2004. At that time, the EPA will publish a notice of availability for the DEIS in the Federal Register. The comment period on the draft environmental impact statement will be 45 days from the date the Environmental Protection Agency publishes the Notice of Availability in the Federal Register.

The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the CEQ for implementing the procedural provisions of the National Environmental Policy Act at 40 CFR 1503.3 in addressing these points.

Dated: June 3, 2004.
Jim Thorsen,
District Ranger, Seminole Ranger District, National Forests in Florida.
Dated: June 15, 2004.
Jerri Marr,
District Ranger, Lake George Ranger District, National Forests in Florida.

[FR Doc. 04-14324 Filed 6-23-04; 8:45 am]

BILLING CODE 3410-11-M